SMALL BUSINESS ADMINISTRATION

[Declaration of Disaster #3528, Amdt. 3]

State of Ohio

In accordance with the notice received from the Department of Homeland Security—Federal Emergency Management Agency, effective August 4, 2003, the above numbered declaration is hereby amended to include Columbiana and Mahoning Counties as disaster areas due to damages caused by severe storms and flooding occurring on July 4, 2003, and continuing through July 11, 2003.

In addition, applications for economic injury loans from small businesses located in the contiguous counties of Carroll, Jefferson, Portage, Stark, and Trumbull in the State of Ohio; Beaver, Lawrence, and Mercer Counties in the State of Pennsylvania; and Hancock County in the State of West Virginia may be filed until the specified date at the previously designated location. All other counties contiguous to the above named primary counties have been previously declared.

The number for economic injury for the State of Pennsylvania is 9W6500 and for the State of West Virginia is 9W6600.

All other information remains the same, i.e., the deadline for filing applications for physical damage is September 15, 2003, and for economic injury the deadline is April 15, 2004.

(Catalog of Federal Domestic Assistance Program Nos. 59002 and 59008).
Dated: August 3, 2003.
Herbert L. Mitchell,
Associate Administrator for Disaster Assistance.

[FR Doc. 03-20471 Filed 8-11-03; 8:45 am]

BILLING CODE 8025-01-P